DEPARTMENT OF STATE

[Public Notice 3550]

Culturally Significant Objects Imported for Exhibition; Determinations: “The Global Guggenheim: Selections From the Extended Collection”; Amendment

DEPARTMENT: United States Department of State.

ACTION: Notice.

SUMMARY: Notice is hereby given of the following determinations: Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], and Delegation of Authority No. 236 of October 19, 1999 [64 FR 57920], as amended, I hereby determine that one additional object to be included in the exhibit, “The Global Guggenheim: Selections from the Extended Collection,” imported from abroad for the temporary exhibition without profit within the United States, is of cultural significance. The object will be imported pursuant to a loan agreement with a foreign lender. I also determine that the temporary exhibition or display of the additional object at the Solomon R. Guggenheim Museum, New York, New York, from on or about February 6 to on or about April 22, 2001, is in the national interest. Public Notice of these determinations is ordered to be published in the Federal Register.

FOR FURTHER INFORMATION CONTACT: For further information, including a list of exhibit objects, contact Julianne C. Simpson, Attorney-Adviser, Office of the Legal Adviser, 202/619-6529, and the address is SA-44, Room 700, United States Department of State, 301 4th Street, S.W., Washington, DC 20547-0001.

Dated: January 12, 2001.
William B. Bader,
Assistant Secretary for Educational and Cultural Affairs, Department of State.

[FR Doc. 01-1516 Filed 1-17-01; 8:45 am]

BILLING CODE 4710-08-P